OFFICE OF PERSONNEL MANAGEMENT

SES Performance Review Board

AGENCY: Office of Personnel Management.

ACTION: Notice.

SUMMARY: Notice is hereby given of the appointment of members of the OPM Performance Review Board.

FOR FURTHER INFORMATION CONTACT: Teresa Floyd, Center for Human Capital Management Services, Office of Personnel Management, 1900 E Street NW., Washington, DC 20415, (202) 606-2309.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Linda M. Springer,
Director.

The following have been designated as regular members of the Performance Review Board of the Office of Personnel Management:

Dan G. Blair, Deputy Director—Chair.

Patricia L. Hollis, Chief of Staff and Director of External Affairs.

Clarence Crawford, Chief Financial Officer.

Robert F. Danbeck, Associate Director for Human Resources Products and Services.

Nancy H. Kichak, Associate Director for Strategic Human Resources Policy.

Marta B. Perez, Associate Director for Human Capital Leadership and Merit System Accountability.

Mark A. Robbins, General Counsel.

William A. Jackson Jr., Deputy Associate Director for Human Capital Management Services—Executive Secretariat.

[FR Doc. 05-20484 Filed 10-12-05; 8:45 am]

BILLING CODE 6325-45-P